ENVIRONMENTAL PROTECTION AGENCY

[EPA-HQ-ORD -2015-0611; FRL-9954-12-ORD]

Board of Scientific Counselors (BOSC); Sustainable and Healthy Communities Subcommittee Meeting—November 2016

AGENCY: Environmental Protection Agency (EPA).

ACTION: Notification of public meeting and public comment.

SUMMARY: The U.S. Environmental Protection Agency, Office of Research and Development (ORD), gives notice that the Board of Scientific Counselors (BOSC) Sustainable and Healthy Communities (SHC) Subcommittee will convene for a public meeting. Subcommittee deliberations will focus on Topic 3 of the ORD/SHC research program, which includes contaminated sites and sediments, environmental releases of oils and fuels, and sustainable materials management. Meeting documents are available for viewing and downloading at https://www.epa.gov/bosc/sustainable-and-healthy-communities-subcommittee-meeting-documents. Members of the public are encouraged to attend, and preregistration is required.

DATES: The meeting will be held on Wednesday, November 2, 2016, from 12:30 p.m. to 6:30 p.m.; Thursday, November 3, 2016, from 8:30 a.m. to 5:45 p.m.; and Friday, November 4, 2016, from 8:00 a.m. until 2:00 p.m. All times noted are Eastern Time. In-person attendees should preregister by October 25, 2016, using the Eventbrite Web site: http://www.eventbrite.com/e/us-epa-bosc-sustainable-and-healthy-communities-subcommittee-tickets-27124114958. Requests for the draft agenda or for submitting written comments will be accepted up to one business day before the meeting. For additional information related to preregistering, the agenda, or providing comments, please see the SUPPLEMENTARY INFORMATION section below.

ADDRESSES: The meeting will be held at the EPA's Andrew W. Breidenbach Environmental Research Center (AWBERC), 26 W. Martin Luther King Drive, Rooms 130/138, Cincinnati Ohio 45268.

FOR FURTHER INFORMATION CONTACT: The Designated Federal Officer (DFO) via mail at: Jace Cujé, Mail Code 8104R, Office of Science Policy, Office of Research and Development, U.S. Environmental Protection Agency, 1200 Pennsylvania Ave. NW., Washington, DC 20460; via phone/voice mail at: (202) 564-1795; via fax at: (202) 565-2911; or via email at: cuje.jace@epa.gov.

SUPPLEMENTARY INFORMATION: The BOSC was established by the EPA to provide advice, information, and recommendations regarding the ORD research programs. The BOSC is federal advisory committee chartered under the Federal Advisory Committee Act (FACA), 5 U.S.C., App. 2. Pursuant to FACA and EPA policy, notice is hereby given that the BOSC SHC Subcommittee will hold a public meeting to deliberate on ORD/SHC research program, Topic 3, which includes contaminated sites and sediments, environmental releases of oils and fuels, and sustainable materials management. Proposed agenda items for the meeting include, but are not limited to, the following: Program and Regional Office Overviews of Research Needs, Successful Partnerships, SHC Overviews, Poster Sessions and Partner Panel Discussions for each of three areas under SHC Topic 3. Each individual making an oral presentation at the meeting will be limited to a total of three minutes, and should consider providing written comments to expand upon the points presented orally. For security purposes at the meeting site, all attendees must go through a metal detector, sign in with the security desk, and show REAL ID Act-compliant government-issued photo identification to enter the building. Attendees are encouraged to arrive at least 15 minutes prior to the start of the meeting to allow sufficient time for security screening.

Instructions for Comments: Submit your comments using one of the following methods:

• www.regulations.gov: Follow the on-line instructions for submitting comments.

• Email: Send comments by electronic mail (email) to: ORD.Docket@epa.gov, Attention Docket ID No. EPA-HQ-ORD-2015-0611.

• Fax: Fax comments to: (202) 566-0224, Attention Docket ID No. EPA-HQ-ORD-2015-0611.

• Mail: Send comments by mail to: Board of Scientific Counselors (BOSC) Sustainable and Healthy Communities Subcommittee Docket, Mail Code: 2822T, 1301 Constitution Ave. NW., Washington, DC 20004, Attention Docket ID No. EPA-HQ-ORD-2015-0611.

• Hand Delivery or Courier: Deliver comments to: EPA Docket Center (EPA/DC), Room 3334, William Jefferson Clinton West Building, 1301 Constitution Ave. NW., Washington, DC, Attention Docket ID No. EPA-HQ-ORD-2015-0611. Note: This is not a mailing address. Deliveries are only accepted during the docket's normal hours of operation, and special arrangements should be made for deliveries of boxed information.

The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/dockets/.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Board of Scientific Counselors (BOSC) Sustainable and Healthy Communities Subcommittee Docket, EPA/DC, William Jefferson Clinton West Building, Room 3334, 1301 Constitution Ave. NW., Washington, DC. The Public Reading Room is open from 8:30 a.m. to 4:30 p.m., Monday through Friday, excluding legal holidays. The telephone number for the Public Reading Room is (202) 566-1744, and the telephone number for the ORD Docket is (202) 566-1752.

Information on Services for Individuals With Disabilities: For information on access or services for individuals with disabilities, please contact Jace Cujé at (202) 564-1795 or cuje.jace@epa.gov. To request accommodation of a disability, please contact Jace Cujé, preferably at least ten days prior to the meeting, to give the EPA as much time as possible to process your request.

Dated: October 6, 2016.
Fred S. Hauchman,
Director, Office of Science Policy.

[FR Doc. 2016-24913 Filed 10-13-16; 8:45 am]

BILLING CODE 6560-50-P